DEPARTMENT OF DEFENSE

Marine Corps

Privacy Act of 1974; System of Records

AGENCY: U.S. Marine Corps, DoD.

ACTION: Delete a system of records.

SUMMARY: The U.S. Marine Corps proposes to delete a system of records notice from its inventory of record systems subject to the Privacy Act of 1974 (5 U.S.C. 552a), as amended.

DATES: This action will be effective without further notice on January 17, 2001, unless comments are received which result in a contrary determination.

ADDRESSES: Send comments to the Head, FOIA and Privacy Act Section, Headquarters, U.S. Marine Corps, 2 Navy Annex, Washington, DC 20380-1775.

FOR FURTHER INFORMATION CONTACT: Ms. B.L. Thompson at (703) 614-4008 or DSN 224-4008.

SUPPLEMENTARY INFORMATION: The U.S. Marine Corps record system notices for records systems subject to the Privacy Act of 1974 (5 U.S.C. 552a), as amended, have been published in the Federal Register and are available from the address above.

The proposed deletion is not within the purview of subsection (r) of the Privacy Act (5 U.S.C. 552a), as amended, which would require the submission of a new or altered system report.

Dated: December 12, 2000.
Patricia L. Toppings,
Alternate OSD Federal Register Liaison Officer, Department of Defense.

MMN00020

System name:

Pet Registration (February 22, 1993, 58 FR 10630).

Reason:

These records are now being maintained under a Department of the Army Privacy Act system of records notice identified as A0040-905 DASG, Defense Privately Owned Animal Record Files.

[FR Doc. 00-32059 Filed 12-15-00; 8:45 am]

BILLING CODE 5001-10-P